DEPARTMENT OF THE INTERIOR

Fish and Wildlife Service

Availability of a Final Revised Recovery Plan for the Oregon Silverspot Butterfly

AGENCY: Fish and Wildlife Service, Interior.

ACTION: Notice of document availability.

SUMMARY: We, the Fish and Wildlife Service announce the availability of a final revised recovery plan for the Oregon silverspot butterfly (Speyeria zerene hippolyta), which will update the original recovery plan that was completed in 1982. This butterfly is distributed in six small areas along the Pacific coast from northern California to southern Washington. The Oregon silverspot butterfly depends upon coastal grasslands that contain the larval host plant (early blue violet), nectar sources, and adult courtship areas. Actions needed for recovery include permanent protection of habitat, restoration and management of native coastal grasslands, and prevention of further habitat fragmentation by minimizing the effects of human disturbance.

ADDRESSES: Recovery plans that have been approved by the U.S. Fish and Wildlife Service are available on the World Wide Web at http://endangered.fws.gov/recovery/recplans/index.htm. Recovery plans may also be obtained from: Fish and Wildlife Reference Service, 5430 Grosvenor Lane, Suite 110, Bethesda, Maryland 20814, (301) 429-6403 or 1-800-582-3421. The fee for the plan varies depending on the number of pages of the plan.

FOR FURTHER INFORMATION CONTACT: Rollie White, Endangered Species Division Manager, U.S. Fish and Wildlife Service, Oregon Fish and Wildlife Office, 2600 SE 98th Avenue, Suite 100, Portland, Oregon, 97266; phone (503) 231-6179.

SUPPLEMENTARY INFORMATION:

Background

Restoring an endangered or threatened animal or plant to the point where it is again a secure, self-sustaining member of its ecosystem is a primary goal of our endangered species program. To help guide the recovery effort, we are working to prepare recovery plans for most of the listed species native to the United States. Recovery plans describe actions considered necessary to conserve the species, establish criteria for recognizing the recovery levels for downlisting or delisting them, and estimate time and cost for implementing the recovery measures needed.

The Endangered Species Act of 1973 (Act), as amended (16 U.S.C. 1531 et seq.) requires that recovery plans be developed for listed species unless such a plan would not promote the conservation of a particular species. Section 4(f) of the Act, as amended in 1988, requires that during recovery plan development, we provide public notice and an opportunity for public review and comment. We will consider all information presented during a comment period before we approve a new or revised recovery plan. We and other Federal agencies will also take these comments into account in the course of implementing approved recovery plans.

The Oregon silverspot butterfly, which was listed as threatened with critical habitat in 1980, is a small, darkly marked coastal subspecies of the Zerene fritillary butterfly. This subspecies occurs in six small pockets of remaining habitat at Del Norte/Lake Earl in California and Clatsop Plains, Mt. Hebo, Cascade Head, Bray Point and Rock Creek-Big Creek in Oregon. A population in Long Beach, Washington may be extirpated and the population on the Clatsop Plains is extremely low and at risk of extirpation. The original recovery plan was completed in 1982. At the time of listing, the only known viable population occurred in the Rock Creek-Big Creek area. The original recovery plan included recovery actions for the Rock Creek-Big Creek area as well as the rediscovered population of butterflies at Mt. Hebo. Since that time, additional Oregon silverspot populations have been discovered or rediscovered at Cascade Head, Bray Point, Clatsop Plains, and Del Norte.

The open vegetation preferred by the butterfly has always had a patchy distribution that was maintained through wildfire, salt-laden winds, grazing, and controlled burning. Habitat has declined due to residential and commercial development, invasion of exotic plant species, overgrazing, and lack of fire. Current threats to Oregon silverspot butterflies include continued habitat alteration, continued invasion of non-native plants, off-road vehicle use, and vegetation change due to fire suppression.

The revised recovery plan calls for restoring and protecting habitat for the Oregon silverspot butterfly to establish or maintain viable populations in six habitat conservation areas. The revised recovery plan also calls for augmenting declining populations with captive-reared individuals and reintroducing butterflies in areas where they have been extirpated. The plan serves as a guide for all Federal and State agencies whose actions affect the conservation of the Oregon silverspot butterfly.

The objective of the plan is to conserve the Oregon silverspot butterfly so that protection by the Act is no longer necessary. As recovery criteria are met, the status of the species will be reviewed and it will be considered for removal from the List of Endangered and Threatened Wildlife (50 CFR part 17). Major actions necessary to accomplish this objective include permanent management of protected habitat in the habitat conservation areas listed in the plan to maintain native, early successional grassland communities which include early blue violet and native nectar species.

Authority

The authority for this action is section 4(f) of the Endangered Species Act, 16 U.S.C. 1533 (f).

Dated: August 22, 2001.
Rowan W. Gould,
Acting Regional Director, Fish and Wildlife Service, Pacific Region.

[FR Doc. 01-29733 Filed 11-29-01; 8:45 am]

BILLING CODE 4310-55-P